DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Emergency Response Grants Regulations—42 CFR Part 51—(OMB No. 0930-0229)—Extension

This rule implements section 501(m) of the Public Health Service Act (42 U.S.C 290aa), which authorizes the Secretary to make noncompetitive grants, contracts or cooperative agreements to public entities to enable such entities to address emergency substance abuse or mental health needs in local communities. The rule establishes criteria for determining that a substance abuse or mental health emergency exists, the minimum content for an application, and reporting requirements for recipients of such funding. SAMHSA will use the information in the applications to make a determination that the requisite need exists; that the mental health and/or substance abuse needs are a direct result of the precipitating event; that no other local, state, tribal or Federal funding sources available to address the need; that there is an adequate plan of services; that the applicant has appropriate organizational capability; and, that the budget provides sufficient justification and is consistent with the documentation of need and the plan of services. Eligible applicants may apply to the Secretary for either of two types of substance abuse and mental health emergency response grants: Immediate awards and Intermediate awards. The former are designed to be funded up to $50,000, or such greater amount as determined by the Secretary on a case-by-case basis, and are to be used over the initial 90-day period commencing as soon as possible after the precipitating event; the latter awards require more documentation, including a needs assessment, other data and related budgetary detail. The Intermediate awards have no predefined budget limit. Typically, Intermediate awards would be used to meet systemic mental health and/or substance abuse needs during the recovery period following the Immediate award period. Such awards may be used for up to one year, with a possible second year supplement based on submission of additional required information and data. This program is an approved user of the PHS-5161 application form, approved by OMB under control number 0920-0428. The quarterly financial status reports in 51d.10(a)(2) and (b)(2) are as permitted by 45 CFR 92.41(b); the final program report, financial status report and final voucher in 51d.10(a)(3) and in 51d.10(b)(3-4) are in accordance with 45 CFR 92.50(b). Information collection requirements of 45 CFR part 92 are approved by OMB under control number 0990-0169. The following table presents annual burden estimates for the information collection requirements of this regulation.

42 CFR citation | Number of respondents | Responses per respondent | Hours per response | Annual burden hours
Immediate award application:
51d.4(a) and 51d.6(a)(2) | 3 | 1 | 3 | 9*
51d.4(b) and 51d.6(a)(2) Immediate Awards | 3 | 1 | 10 | 30*
51d.10(a)(1)—Immediate awards—mid-program report if applicable | 3 | 1 | 2 | 6*
Final report content for both types of awards:
51d.10(c) | 6 | 1 | 3 | 18
Total | 6 |  |  | 18
*This burden is carried under OMB No. 0920-0428.

Written comments and recommendations concerning the proposed information collection should be sent by March 24, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: February 11, 2008.
Elaine Parry,
Acting Director, Office of Program Services.

[FR Doc. E8-3321 Filed 2-21-08; 8:45 am]

BILLING CODE 4162-20-P